DEPARTMENT OF ENERGY

Federal Energy Regulatory Commission

[Docket No. EC03-22-000, et al.]

Camden Cogen, L.P., et al.; Electric Rate and Corporate Filings

November 27, 2002.

The following filings have been made with the Commission. The filings are listed in ascending order within each docket classification.

1. Camden Cogen, L.P., Cogen Technologies Camden GP Limited Partnership, Cogen Technologies NJ Venture, CPN Bayonne, L.L.C., East Coast Power Bayonne GP, L.L.C., East Coast Power Camden LP, L.C.C., East Coast Power, L.L.C., Mesquite Investors, L.L.C., TEVCO/Mission Bayonne Partnership

[Docket No. EC03-22-000]

Take notice that on November 25, 2002, Camden Cogen, L.P. (Camden Cogen), Cogen Technologies Camden GP Limited Partnership (Cogen Technologies Camden), Cogen Technologies NJ Venture (Bayonne), CPN Bayonne, L.L.C. (CPN Bayonne), East Coast Power Bayonne GP, L.L.C. (East Coast Bayonne), East Coast Power Camden LP, L.L.C. (“East Coast Camden”), East Coast Power, L.L.C. (East Coast Power), Mesquite Investors, L.L.C. (Mesquite), and TEVCO/Mission Bayonne Partnership (TEVCO) (jointly, Applicants) filed with the Federal Energy Regulatory Commission an application pursuant to Section 203 of the Federal Power Act seeking authorization for: (I) Camden Cogen and Bayonne to convert their form of business organization to limited liability companies, and (ii) an internal corporate transfer of the member interests in the newly-converted limited liability companies, namely Camden Plant Holding, L.L.C. and Bayonne Plant Holding, L.L.C. respectively, directly to Mesquite.

Comment Date: December 16, 2002.

2. Power Resources, Ltd.

[Docket No. EG03-22-000]

Take notice that on November 22, 2002, Power Resources, Ltd. (Applicant) filed with the Federal Energy Regulatory Commission (Commission) an application for determination of exempt wholesale generator status pursuant to Section 32 of the Public Utility Holding Company Act of 1935 and part 365 of the Commission's Regulations. Applicant, a Texas limited partnership with its principal place of business at 500 East Refinery Road, Big Spring, Texas 79720, is an indirect subsidiary of MidAmerican Energy Holdings Company.

Comment Date: December 18, 2002.

3. Ameren Energy Generating Company

[Docket No. EG03-23-000]

Take notice that on November 25, 2002, Ameren Energy Generating Company (AEG), One Ameren Plaza, 1901 Chouteau Plaza, P.O. Box 66149, St. Louis, Missouri, 63166-6149, filed with the Federal Energy Regulatory Commission (Commission) an application for determination of continuing exempt wholesale generator status pursuant to part 365 of the Commission's Regulations.

AEG states that it has recently acquired the 468 MW Elgin Energy Center, which consists of four 117 MW natural gas-fired combustion turbines operating in simple cycle mode. AEG states that all of the electric energy from the affected units will be sold at wholesale.

Comment Date: December 18, 2002.

4. Southern Company Services, Inc.

[Docket No. ER03-211-000]

Take notice that on November 22, 2002, Southern Company Services, Inc. (SCS), on behalf of Georgia Power Company (Georgia Power) submitted for filing with the Federal Energy Regulatory Commission (Commission) the Interconnection Agreement by and between Georgia Power and Southern Power Company for McIntosh CC Unit 1 (Interconnection Agreement). SCS requests the Interconnection Agreement be accepted for filing effective October 25, 2002.

Comment Date: December 13, 2002.

5. Southern Company Services, Inc.

[Docket No. ER03-212-000]

Take notice that on November 22, 2002, Southern Company Services, Inc. (SCS), on behalf of Georgia Power Company (Georgia Power) submitted for filing with the Federal Energy Regulatory Commission (Commission) the Interconnection Agreement by and between Georgia Power and Southern Power Company for McIntosh CC Unit 2 (Interconnection Agreement). SCS requests Interconnection Agreement be accepted for filing effective October 25, 2002.

Comment Date: December 13, 2002.

6. Power Resource Group, Inc.

[Docket No. ER03-213-000]

Take notice that on November 22, 2002, Power Resource Group, Inc. filed a Notice of Cancellation of its FERC Electric Tariff, Original Volume No. 1, with a proposed effective date of November 25, 2002. Power Resource Group, Inc. is no longer engaged in the power marketing business, will not conduct power marketing activities in the future, and has no outstanding power sales contracts; accordingly, no purchasers will be affected by this Notice.

Comment Date: December 13, 2002.

7. New York Independent System Operator, Inc.

[Docket No. ER03-214-000]

Take notice that on November 22, 2002 Niagara Mohawk Power Corporation tendered for filing a service agreement, i.e. an Interconnection Agreement between Niagara Mohawk Power Corporation and Orion Power New York GPII, Inc. for an existing and operating 2.2 MW hydroelectric generating facility located in the Town of Clifton, St. Lawrence County, New York, dated as of October 18, 2002 (Agreement). The filing reflects the filing of the agreement as a service agreement filed by Niagara Mohawk under the NYISO Open Access Transmission Tariff. The filing has been designated by the New York Independent System Operator as Service Agreement No. 318.

An effective date of November 15, 2002 is requested and to the extent necessary, Niagara Mohawk requests waiver of any Commission requirement that a rate schedule be filed not less than 60 days or more than 120 days from its effective date.

Comment Date: December 13, 2002.

8. Mirant Delta, LLC, Mirant Potrero, LLC

[Docket No. ER03-215-000]

Take notice that, on November 22, 2002, Mirant Delta, LLC (Mirant Delta) and Mirant Potrero, LLC (Mirant Potrero) tendered for filing certain revised tariff sheets to the Must-Run Service Agreements between Mirant Delta, Mirant Potrero, and the California Independent System Operator Corporation. The revisions include, inter alia, changes to the: (I) Contract Service Limits, (ii) Hourly Availability Charges and Penalty Rates, (iii) Capital Item Charges and Penalty Rates; (iv) Prepaid Start-up Costs, and (v) projected outage information for the generating units owned by Mirant Delta and Mirant Potrero, for the year beginning January 1, 2003.

Comment Date: December 13, 2002.

9. Midwest Independent Transmission System Operator, Inc. and TRANSLink Development Company, LLC

[Docket No. ER03-216-000]

Take notice that on November 22, 2002, TRANSLink Development Company, LLC (TRANSLink Development) and the Midwest Independent Transmission System Operator, Inc. (Midwest ISO or MISO) submitted to the Commission for its review and approval an Appendix I Independent Transmission Company Agreement (the Agreement) between the Midwest ISO and TRANSLink Development, executed on November 22, 2002.

The Appendix I Agreement submitted to the Commission identifies the terms under which TRANSLink Transmission Company LLC (TRANSLink) will join the Midwest ISO as an independent transmission company, thereby expanding the scope of the Midwest ISO regional transmission organization to include the transmission systems of the TRANSLink Participants, including both jurisdictional utilities and municipal and cooperative public power systems.

Comment Date: December 13, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-30983 Filed 12-6-02; 8:45 am]

BILLING CODE 6717-01-P